DEPARTMENT OF AGRICULTURE

Forest Service

Umatilla National Forest, Oregon, Rimrock Ecosystem Restoration Projects

AGENCY: Forest Service, USDA.

ACTION: Notice of intent to prepare a supplemental environmental impact statement.

SUMMARY: The Final Environmental Impact Statement (FEIS) and Record of Decision (ROD) for the Rimrock Ecosystem Restoration Projects was listed in the Federal Register on June 6, 2003 (68 FR 33934). On August 14, 2003, the decision to implement commercial and non-commercial thinning within the C3 winter range was withdrawn from the ROD. All other aspects of the June 6th ROD are being implemented. There is a need to amend the Umatilla National Forest Land and Resource Management Plan (LRMP) in order to implement the commercial and non-commercial thinning within the C3 Management area. The FEIS will be supplemented to inform and support a new decision on the C3 area of the Rimrock Ecosystem Restoration Projects.

DATES: Comments concerning the scope of the analysis must be received by March 15, 2004. The supplemental draft environmental impact statement is expected April 2004 and the final supplemental environmental impact statement is expected July 2004.

ADDRESSES: Send written comments to the Responsible Official, Jeff Blackwood, Forest Supervisor, Umatilla National Forest, 2517 S.W. Hailey Avenue, Pendleton, OR 97801. Send electronic comments to comments.pacificnorthwest.umatilla@fs.fed.us. For further information, mail correspondence to David Kendrick, Project Team Leader, Heppner Ranger District, PO Box 7, Heppner, OR 97836.

FOR FURTHER INFORMATION CONTACT: See address above.

SUPPLEMENTARY INFORMATION:

Purpose and Need for Action

The purpose of this supplement to the Rimrock FEIS is to consider new information on the commercial and non-commercial thinning treatments in the C3 management area. The existing habitat effectiveness index for the Monument winter range is 67. Implementation of the commercial and non-commercial thinning portion of the Rimrock Ecosystem Restoration Project within the C3 management area in the proposed action or alternative actions (Rimrock FEIS pages 26-36) would result in a habitat effectiveness index of 67 for the Monument winter range. Although there is no change in habitat effectiveness index, an index of no less than 70 was not achieved as stated in the LRMP (page 4-152). Therefore, to fully address the original purpose and need for the project and implement the proposed action or alternative actions within the C3 management area, an amendment to the LRMP would be required. The purpose of the amendment is to permit implementation of the commercial and non-commercial thinning in the C3 management area of the Rimrock Ecosystem Restoration Projects.

Proposed Action

In addition to the proposed commercial and non-commercial activities as described in the Rimrock FEIS (pages 26-37), the Forest Supervisor proposes to amend the LRMP following procedures described in Forest Service Handbook 1909.12, Chapter 5 Forest Plan Implementation and Amendment Process. The amendment will allow a project specific change to the wildlife standard on page 4-152 for all action alternatives. The standard reads: “Elk habitat will be managed on designated big game winter ranges to achieve a habitat effectiveness index of no less than 70, including discounts for roads open to motorized vehicular traffic as described in Wilflife Habitats in Managed Forests (Thomas and others, 1979). The habitat effectiveness standard will be measured on an individual winter range basis.” The amendment will allow an HEI of 67 for the Monument winter range only for the site-specific project called Rimrock Ecosystem Restoration Projects.

Possible Alternatives

All alternatives described in Chapter 2 of the FEIS remain unchanged except for an amendment to only change the HEI to 67 for the wildlife standard on LRMP page 4-152 for this site-specific project. The alternatives are described in detail on pages 23 to 37 in the Rimrock FEIS. In addition to these alternatives, one action alternative that does not amend the LRMP will be considered.

Responsible Official

Jeff Blackwood, Forest Supervisor, Umatilla National Forest, 2517 S.W. Hailey Avenue, Pendleton, OR 97801.

Nature of Decision To Be Made

Whether or not to implement the proposed commercial and non-commercial thinning activities in the C3 management area as described in the Rimrock Ecosystem Restoration Projects FEIS and amend the LRMP habitat effectiveness standard to 67 for this site-specific project only.

Scoping Process

The formal scoping period opened with publication of the Notice of Intent to produce an Environmental Impact Statement, which first appeared in the Federal Register on February 25, 1999 (Vol. 64, No. 37, page 9310-9311). Notification of the Draft Environmental Impact Statement was printed in the Federal Register on September 1, 2000 (Vol. 65, No. 171, page 53295). A Notice of Availability of the Final Environmental Impact Statement (FEIS) was printed in the Federal Register on June 6, 2003 (Vol. 68, No. 109, page 33934). On August 15, 2003, a letter was mailed to 156 stakeholders and agency representatives, to notify that the commercial and precommercial thinning activities in the C3 management area had been withdrawn from the decision. An additional scoping period is being conducted to examine the need for an LRMP amendment for the HEI in the C3 Monument Winter Range.

Issues

Issues are described in detail on pages 13 to 16 in the Rimrock FEIS and include: (1) Vegetation removal as a management tool and (2) Water Quality and Fish Habitat.

Comment Requested

This notice of intent initiates the scoping process that guides the development of the supplement to the environmental impact statement. We are seeking comments on a forest plan amendment to change the HEI of 70 to 67 within the C3 Management Area on the site-specific project of the Rimrock Ecosystem Restoration Projects on the Umatilla National Forest. All comments previously received during scoping and in response to the DEIS will remain part of the project record.

Early Notice of Importance of Public Participation in Subsequent Environmental Review

A supplemental draft environmental impact statement will be prepared for comment. The comment period on the supplemental draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the FEIS.

To assist the Forest Service in identifying and considering issues and concerns on the proposed action, comments on the supplemental draft environmental impact statement should be as specific as possible. It is also helpful if comments refer to specific pages or chapters of the draft statement. Comments may also address the adequacy of the supplemental draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: February 6, 2004.
Jeff D. Blackwood,
Forest Supervisor.

[FR Doc. 04-3047 Filed 2-13-04; 8:45 am]

BILLING CODE 3410-11-M